DEPARTMENT OF EDUCATION

[CFDA Nos. 84.339A; 84.339B]

Fund for the Improvement of Postsecondary Education—Learning Anytime Anywhere Partnerships (LAAP) (Preapplications and Applications) Notice Inviting Applications for New Awards for Fiscal Year (FY) 2001.

Purpose of Program: To provide grants or enter into cooperative agreements to enhance the delivery, quality, and accountability of postsecondary education and career-oriented lifelong learning through asynchronous distance education.

For fiscal year (FY) 2001, the Secretary encourages applicants to design projects that focus on the invitational priorities set forth in the invitational priorities section of this application notice.

Eligible Applicants: Partnerships consisting of two or more independent agencies, organizations, or institutions, including institutions of higher education, associations, corporations, community organizations, and other public and private institutions, agencies, and organizations.

Note: A nonprofit organization must serve as the fiscal agent for a funded partnership.

Applications Available: January 16, 2001.

Deadline for Transmittal of Preapplications: March 15, 2001.

Deadline for Transmittal of Applications: June 15, 2001.

Note: All applicants must submit a preapplication to be eligible to submit a final application.

Deadline for Intergovernmental Review: August 8, 2001.

Available Funds: $15,500,000.

Note: Federal funds available under this competition may not pay for more than 50 percent of the cost of a project. Grantees are required to share project costs by matching the requested Federal funds dollar for dollar. The non-Federal share of project costs may be in cash or in kind, fairly evaluated, including services, supplies, or equipment.

Estimated Range of Awards: $100,000 to $500,000 per year.

Estimated Size of Awards: $333,333 per year.

Estimated Number of Awards: 30-40.

Note: The Department is not bound by any estimates in this notice.

Project Period: Up to 36 months.

Applicable Regulations: (a) The Education Department General Administrative Regulations (EDGAR) in 34 CFR parts 74, 75, 77, 79, 80, 82, 85, 86, 97, 98, and 99.

Authorized Activities

Funds awarded to an eligible partnership must be used to conduct one or more of the following activities:

(a) Develop and assess model distance learning programs or innovative educational software.

(b) Develop methodologies for the identification and measurement of skill competencies.

(c) Develop and assess innovative student support services.

(d) Support other activities consistent with the statutory purpose of this program.

Invitational Priorities

The Secretary is particularly interested in applications that meet one or more of the following invitational priorities. However, an application that meets one or more of these invitational priorities does not receive competitive or absolute preference over other applications (34 CFR 75.105(c)(1)).

Invitational Priority 1—Projects that achieve economies of scale by delivering programs over large geographic regions covering more students, faculty and institutions; and by promoting cost-sharing, resource sharing, and faculty collaboration across institutions.

Invitational Priority 2—Projects that develop high quality, interactive software that is both modular or sufficiently flexible for faculty modification of academic content, as well as portable for wide-scale implementation across institutions.

Invitational Priority 3—Projects that package courses and programs to assist students in accessing the offerings of multiple providers and to assist institutions in cooperating and sharing resources.

Invitational Priority 4—Projects that use skill competencies and learning outcomes to measure student progress and achievement in asynchronous distance learning programs.

Invitational Priority 5—Projects that improve quality and accountability of asynchronous distance education, thereby ensuring that credentials are meaningful, providers are accountable, and courses meet high standards.

Invitational Priority 6—Projects that create new asynchronous distance education opportunities for underserved learners, especially those who have not always been well served by traditional campus-based education or common forms of distance education, including: individuals with disabilities; individuals who have lost their jobs; individuals making the transition from welfare to the workforce; and individuals seeking basic or technical skills or their first postsecondary education experience.

Invitational Priority 7—Projects that improve support services for students seeking asynchronous distance education to ensure that they have complete and convenient access to needed services such as registration, financial aid, advising, assessment, counseling, libraries, and many others.

Invitational Priority 8—Projects that remove or revise institutional, system, State, or other policies, which are barriers to the implementation of new types of asynchronous distance education.

Selection Criteria

The Secretary selects from the criteria in 34 CFR 75.210 to evaluate preapplications and applications for this competition. Under 34 CFR 75.201, the Secretary announces in the application package the selection criteria and factors, if any, for this competition and the maximum weight assigned to each criterion.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site http://www.ed.gov/pubs/edpubs.html or you may contact ED Pubs at its e-mail address: edpubs@inet.ed.gov

If you request an application from ED Pubs, be sure to identify the competition as follows: CFDA number 84.339A.

FOR FURTHER INFORMATION CONTACT: The Fund for the Improvement of Postsecondary Education (FIPSE), U.S. Department of Education, 1990 K Street, N.W., Washington, DC 20006-8544. Telephone: (202) 502-7500. Individuals may also request applications or request information by submitting the name of the competition, their name, and postal mailing address to the e-mail address: LAAP@ed.gov.

The application text may be obtained from the Internet address http://www.ed.gov/FIPSE/LAAP

If you use a telecommunications device for the deaf (TDD), you may call the Federal Information Relay Service (FIRS) at 1-800-877-8339.

Individuals with disabilities may obtain this document in an alternative format (e.g., Braille, large print, audiotape, or computer diskette) on request to the contact office listed under FOR FURTHER INFORMATION CONTACT.

Individuals with disabilities also may obtain a copy of the application package in an alternative format by contacting the email address: LAAP@ed.gov

However, the Department is not able to reproduce in alternative format the standard forms included in the application package.

Electronic Access to This Document

You may view this document, as well as all other Department of Education documents published in the Federal Register, in text or Adobe Portable Document Format (PDF) on the Internet at either of the following sites: http://ocfo.ed.gov/fedreg.htm http://www.ed.gov/news.html

To use PDF you must have the Adobe Acrobat Reader, which is available free at either of the previous sites. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at:

http://www/access.gpo.gov/nara/index.html

Program Authority: 20 U.S.C. 1070f et seq.

Dated: January 9, 2001.
A. Lee Fritschler,
Assistant Secretary, Office of Postsecondary Education.

[FR Doc. 01-1243 Filed 1-12-01; 8:45 am]

BILLING CODE 4000-01-P